DEPARTMENT OF COMMERCE

National Oceanic and Atmospheric Administration

Agency Information Collection Activities; Submission to the Office of Management and Budget (OMB) for Review and Approval; Comment Request; Recreational Angler Survey of Sea Turtle Interactions

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 30, 2024.

ADDRESSES: Interested persons are invited to submit written comments to Adrienne Thomas, NOAA PRA Officer, at NOAA.PRA@noaa.gov. Please reference OMB Control Number 0648-0774 in the subject line of your comments. All comments received are part of the public record and will generally be posted on https://www.regulations.gov without change. Do not submit Confidential Business Information or otherwise sensitive or protected information.

FOR FURTHER INFORMATION CONTACT: Requests for additional information or specific questions related to collection activities should be directed to Wendy Piniak, Biologist, NOAA National Marine Fisheries Service, Office of Protected Resources, 1315 East-West Highway, Silver Spring, Maryland 20910; (301) 427-8402; wendy.piniak@noaa.gov.

SUPPLEMENTARY INFORMATION:

I. Abstract

NOAA's National Marine Fisheries Service (NOAA Fisheries) proposes to revise and extend a current information collection designed to assess the extent of hook and line interactions between recreational anglers on piers and other shore-based fishing locations and sea turtles. The collection comprises an Angler Intercept Survey, a Fishing Site Characterization Form, and a Survey Cover Sheet. The Angler Intercept Survey will be verbally administered on piers and shore-based fishing locations within NOAA Fisheries Greater Atlantic Region and Southeast Region and will be administered to approximately 20,000 individual recreational fishermen. The respondents will be verbally asked a series of questions about their fishing practices and observations of sea turtles and the interviewer will record their answers. The survey will also assess the feasibility of an intercept survey for this purpose in terms of response rates and data collection. The Fishing Site Characterization Form will be completed by the survey administrator at each fishing location and collects information on the structure and operation of the pier or shore-based fishing location. The Site Characterization Sheet will be completed by the survey administrator during each survey period and collects information on the environmental conditions for that particular day, the number of anglers fishing, number of lines in the water, and the number of surveys completed. The collection previously included a Sea Turtle Incidental Capture Form. This form will be removed from this collection and is now included in the National Sea Turtle Stranding & Salvage Network Stranding & Gear Interaction Data Collection (0648-0496).

Collection of data on sea turtle interactions in the shore-based recreational fishing sector is necessary to fulfill statutory requirements of the Endangered Species Act (16 U.S.C. 1531 et seq.). This collection will allow NOAA Fisheries obtain specific information about recreational piers (defined here to include piers and other shore-based structures), the anglers that fish on piers, the nature of interactions between pier-based anglers and sea turtles, as well as to determine specific factors that may influence the rate of interactions. NOAA Fisheries can use the information collected to evaluate the impact of these interactions on sea turtle populations and determine conservation measures that can be implemented to reduce interactions and support the conservation and recovery of endangered and threatened sea turtle populations.

II. Method of Collection

The survey will be implemented through verbal interviews.

III. Data

OMB Control Number: 0648-0774.

Form Number(s): None.

Type of Review: Regular submission [Extension including a revision of a current information collection.]

Affected Public: Individuals or households.

Estimated Number of Respondents: 20,000.

Estimated Time per Response: 10 minutes for the Fishing Site Characterization Form, 5 minutes for the Survey Cover Sheet, 10 minutes for the Angler Intercept Survey.

Estimated Total Annual Burden Hours: 1,145.

Estimated Total Annual Cost to Public: $100.

Respondent's Obligation: Voluntary.

Legal Authority: Collection of these data on sea turtle interactions in the shore-based recreational fishing sector is necessary to fulfill statutory requirements of the Endangered Species Act (16 U.S.C. 1531 et seq.).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-16759 Filed 7-29-24; 8:45 am]

BILLING CODE 3510-22-P